DEPARTMENT OF JUSTICE

Federal Bureau of Investigation

Meeting of the Compact Council for the National Crime Prevention and Privacy Compact

AGENCY: Federal Bureau of Investigation, Department of Justice.

ACTION: Meeting notice.

SUMMARY: The purpose of this notice is to announce a meeting of the National Crime Prevention and Privacy Compact Council (Council) created by the National Crime Prevention and Privacy Compact Act of 1998 (Compact).

DATES: The Council will meet virtually due to Covid-19 from 1:00 p.m. (EDT) until 6:00 p.m. (EDT) on May 12, 2021.

ADDRESSES: Due to COVID-19 the meeting will be held virtually. The public will be permitted to provide comments and/or questions related to matters of the Council prior to the meeting, and participate in a listen-only mode upon prior registration. Please see details in the supplemental information.

FOR FURTHER INFORMATION CONTACT: Inquiries may be addressed to Mrs. Chasity S. Anderson, FBI Compact Officer, Biometric Technology Center, 1000 Custer Hollow Road, Clarksburg, West Virginia 26306, telephone 304-625-2803.

SUPPLEMENTARY INFORMATION: Thus far, the Federal Government and 34 states are parties to the Compact which governs the exchange of criminal history records for licensing, employment, immigration and naturalization matters, and similar purposes. The Compact also provides a legal framework for the establishment of a cooperative federal-state system to exchange such records.

The United States Attorney General appointed 15 persons from state and federal agencies to serve on the Council. The Council will prescribe system rules and procedures for the effective and proper operation of the Interstate Identification Index system for noncriminal justice purposes.

Matters for discussion are expected to include:

(1) Review of the Draft Federal Register Notice for the Colorado Proposal

(2) Review of the Draft Federal Notice for the Oklahoma Proposal

(3) Separation and Clarification of the Message Literals Associated with the NGI System's L0008 reject code

The meeting will be conducted virtually due to Covid-19. The public may participate in a listen-only mode with registration via email to AGMU@leo.gov. Individuals must provide their name, city, state, phone, and email address. Information regarding the phone access link will be provided prior to the meeting to all registered individuals.

Any member of the public wishing to file a written statement with the Council or wishing to address this session of the Council should notify the FBI Compact Officer, Mrs. Chasity S. Anderson at compactoffice@fbi.gov, at least 7 days prior to the start of the session. The notification should contain the individual's name and corporate designation, consumer affiliation, or government designation, along with a short statement describing the topic to be addressed and the time needed for the presentation. Individuals will ordinarily be allowed up to 15 minutes to present a topic. The Compact Officer will compile all requests and submit to the Compact Council for consideration.

Individuals requiring special accommodations should contact Ms. Anderson at compactoffice@fbi.gov by no later than April 28, 2021.

Please note all personal registration information may be made publicly available through a Freedom of Information Act request.

Chasity S. Anderson,
FBI Compact Officer, Criminal Justice Information Services Division, Federal Bureau of Investigation.

[FR Doc. 2021-06907 Filed 4-2-21; 8:45 am]

BILLING CODE 4410-02-P